DEPARTMENT OF LABOR

Mine Safety and Health Administration

Petitions for Modification

The following parties have filed petitions to modify the application of existing safety standards under section 101(c) of the Federal Mine Safety and Health Act of 1977.

1. Canyon Fuel Company, LLC

[Docket No. M-2003-032-C]

Canyon Fuel Company, LLC, HC 35 Box 380, Helper, Utah 84526 has filed a petition to modify the application of 30 CFR 75.1002(a) (Installation of electric equipment and conductors; permissibility) to its Skyline Mine No. 3 (MSHA I.D. No. 42-01566) located in Carbon County, Utah. The petitioner requests a modification of the standard to permit the use of low voltage or battery powered non-permissible electronic testing and diagnostic equipment within 150 feet of pillar workings under controlled conditions. The petitioner requests a modification of the existing standard to permit the following non-permissible equipment to be used within 150 feet from pillar workings (longwall gob): laptop computers, oscilloscopes, vibration analysis machines, cable fault detectors, point temperature probes, infrared temperature devices, insulation testers (meggers), voltage, current and power measurement devices and recorders, pressure and flow measurement devices, signal analyzer device, ultrasonic thickness gauges, electronic component testers, and electronic tachometers, other testing and diagnostic equipment that may be approved by the MSHA District Office. The petitioner states that non-permissible electronic testing and diagnostic equipment shall only be used when equivalent permissible equipment does not exist. The petitioner further states that a qualified person shall continuously monitor for methane immediately before and during the use of non-permissible electronic test and diagnostic equipment in or inby the last open crosscut as defined in existing standard 30 CFR 75.151. The petitioner has listed in this petition for modification specific procedures that would be followed when using this equipment. The petitioner asserts that the proposed alternative method would provide at least the same measure of protection as the existing standard.

2. R & D Coal Company

[Docket No. M-2003-033-C]

R & D Coal Company, 214 Vaux Avenue, Tremont, Pennsylvania 17981 has filed a petition to modify the application of 30 CFR 75.1002 now 75.1002 (Installation of electric equipment and conductors; permissibility) to its Buck Mountain Slope (MSHA I.D. No. 36-02053) located in Schuylkill County, Pennsylvania. The petitioner requests a modification in the application of the existing standard to then permit the use of non-permissible electric equipment within 150 feet of the pillar line. The petitioner states that the non-permissible equipment would include drags and battery locomotives due in part to the method of mining used in pitching anthracite mines and the alternative evaluation of the mine air quality for methane on an hourly basis during operation. The petitioner asserts that the proposed alternative method would provide at least the same measure of protection as the existing standard.

3. Consol Pennsylvania Coal Company

[Docket No. M-2003-034-C]

Consol Pennsylvania Coal Company, 1800 Washington Road, Pittsburgh, Pennsylvania 15241-1421 has filed a petition to modify the application of 30 CFR 75.503 (Permissible electric face equipment; maintenance) and 30 CFR 18.35 (Portable (trailing) cables and cords) to its Bailey Mine (MSHA I.D. No. 36-07230) located in Greene County, Pennsylvania. The petitioner proposes to increase the maximum length of trailing cables supplying power to continuous mining machines to 950 feet and other section equipment to 900 feet during longwall panel development. The petitioner states that this alternative method will only apply to trailing cables supplying three-phase, 950-volt power to continuous mining machines and trailing cables supplying three-phase, 480-volt power to loading machines, shuttle cars, roof bolters, and section ventilation fans. The petitioner asserts that the proposed alternative method would provide at least the same measure of protection as the existing standard.

4. Jim Walter Resources, Inc.

[Docket No. M-2003-035-C]

Jim Walter Resources, Inc., P.O. Box 133, Brookwood, Alabama 35444 has filed a petition to modify the application of 30 CFR 75.503 (Permissible electric face equipment; maintenance) to its No. 7 Mine (MSHA I.D. No. 01-01401) located in Tuscaloosa County, Alabama. The petitioner proposes to extend the length of the cable not to exceed 1200 feet for continuous mining machines, loading machines, roof bolting machines, shuttle cars, and section auxiliary ventilation fans during longwall panel development conditioned upon the specific terms and conditions listed in this petition for modification. The petitioner states that it proposed alternative method would apply only to trailing cables that supply 2400-volt, three-phase, alternating current to continuous mining machines, and that all miners will receive training prior to implementation of this proposed alternative method. The petitioner asserts that the proposed alternative method would provide at least the same measure of protection as the existing standard.

5. I O Coal Company, Inc.

[Docket No. M-2003-036-C]

I O Coal Company, Inc., 430 Harper Park Dr., Suite A, Beckley, West Virginia 25801 has filed a petition to modify the application of 30 CFR 75.503 (503 (Permissible electric face equipment; maintenance) and 30 CFR 18.41(f) (Plug and receptacle-type connectors) to its Europa Mine (MSHA I.D. No. 46-08798) located in Boone County, West Virginia. The petitioner proposes to replace a padlock on battery plug connectors on mobile battery-powered machines with a threaded ring and a spring-loaded locking device to prevent the plug connector from accidentally disengaging while under load. The petitioner asserts that the application of the existing standard will result in a diminution of safety to the miners.

6. Consolidation Coal Company

[Docket No. M-2003-037-C]

Consolidation Coal Company, 1800 Washington Road, Pittsburgh, Pennsylvania 15241 has filed a petition to modify the application of 30 CFR 75.1909(b)(6) (Non-permissible diesel-powered equipment; design and performance requirements) to its Emery Mine (MSHA I.D. No. 42-00079) located in Emery County, Utah. The petitioner requests a modification of the existing standard to permit the use of a diesel grader without individual service brakes on all of the grader wheels. The petitioner proposes to equip the Grader with: (i) Service brakes on each of the Drive Wheels; (ii) stationary emergency brakes; and (iii) brakes on the Directional Wheels. The petitioner states that the tramming speed of the Grader will be restricted to 10 miles per hour, the grader operators will be trained to check brake function during pre-operational checks, and to lower the Grader blade to the ground as an additional braking mechanism. The petitioner further states that grader operators will receive task training and annual refresher training on the provisions of its alternative method. The petitioner asserts that the proposed alternative method would provide at least the same measure of protection as the existing standard.

7. FMC Corporation

[Docket No. M-2003-001-M]

FMC Corporation, Box 872, Green River, Wyoming 82935 has filed a petition to modify the application of 30 CFR 57.22305 (Approved equipment (III Mines)) to its FMC Trona Mine (MSHA I.D. No. 48-00152) located in Sweetwater County, Wyoming. The petitioner requests a modification of the existing standard to permit the use of a portable Leica DISTO laser distance meter inby the last open break. The petitioner states that this equipment has minimal output power that is considerably less than the 12-watt threshold for intrinsically safe electrical equipment. The petitioner has listed specific terms and conditions in this petition for modification that would be followed when using this equipment. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before July 3, 2003. Copies of these petitions are available for inspection at that address.

Dated at Arlington, Virginia, this 28th day of May 2003.
Marvin W. Nichols, Jr.,
Director, Office of Standards, Regulations, and Variances.

[FR Doc. 03-13760 Filed 6-2-03; 8:45 am]

BILLING CODE 4510-43-P